DEPARTMENT OF THE INTERIOR

National Park Service

Public Notice of Extension

AGENCY: National Park Service, Interior.

ACTION: Public notice.

SUMMARY: Pursuant to 36 CFR 51.23, public notice is hereby given that the National Park Service proposes to extend the following expiring concession contracts for a period of up to one year, or until such time as a new contract is executed, whichever occurs sooner.

SUPPLEMENTARY INFORMATION: All of the listed concession authorizations will expire by their terms on or before December 31, 2003. The National Park Service has determined that the proposed short-term extensions are necessary in order to avoid interruption of visitor services and has taken all reasonable and appropriate steps to consider alternatives to avoid such interruption. These extensions will allow the National Park Services to complete and issue prospectus leading to the competitive selection of concessioners for new long-term concession contracts covering these operations.

Conc ID No. | Concession name | Park
CC-BUFF001-99 | Buffalo Point | Buffalo National River.
LP-CUVA001-94 | American Youth Hostels | Cuyahoga Valley National Park.
CC-HOSP004-88 | Libbey Memorial Physical Medicine Center | Hot Springs National Park.
CP-INDU003-94 | Michiana Resources, Inc. | Indiana Dunes National Landmark.
CP-INSRO001-95 | The Royale Line, Inc. | Isle Royale National Park.
CP-INSRO007-95 | GRPO-ISRO Trans Line, Inc. | Isle Royale National Park.
CC-JEFF001-96 | Compass Group USA, Inc. | Jefferson National Expansion Memorial.
CC-OZAR012-88 | Akers Ferry Canoe Rental, Inc. | Ozark National Scenic Riverway.
LP-OZAR037-91 | Akers Ferry Canoe Rental, Inc. | Ozark National Scenic Riverway.
CC-OZAR001-88 | Alley Spring Canoe | Ozark National Scenic Riverway.
CC-OZAR025-97 | Big Spring Canoe Rental | Ozark National Scenic Riverway.
CP-OZAR050-97 | Big Spring River Camp | Ozark National Scenic Riverway.
CC-OZAR016-89 | Carr's Grocery/Canoe Rental | Ozark National Scenic Riverway.
CP-OZAR040-97 | Carr's Tube Rental | Ozark National Scenic Riverway.
CP-OZAR011-97 | Current River Canoe Rental | Ozark National Scenic Riverway.
CP-OZAR010-97 | Deer Run Campground | Ozark National Scenic Riverway.
CP-OZAR013-97 | Eminence Canoes, Cottages and Camp | Ozark National Scenic Riverway.
CP-OZAR023-97 | Hawthorne Canoe Rental | Ozark National Scenic Riverway.
CP-OZAR002-97 | Jack's Fork Canoe Rental | Ozark National Scenic Riverway.
CP-OZAR020-97 | Jadwin Canoe Rental, Inc. | Ozark National Scenic Riverway.
CP-OZAR024-97 | The Landing Canoe Rental | Ozark National Scenic Riverway.
CP-OZAR036-97 | Maggard Canoe/Boat, Inc. | Ozark National Scenic Riverway.
CP-OZAR008-97 | Round Spring Canoe Rental | Ozark National Scenic Riverway.
CP-OZAR028-97 | Running River Canoe Rental | Ozark National Scenic Riverway.
CP-OZAR007-97 | Silver Arrow Canoe Rental, Inc. | Ozark National Scenic Riverway.
CP-OZAR049-97 | Smalley's Motel Tube Rental | Ozark National Scenic Riverway.
CP-OZAR018-97 | Two Rivers Canoe Rental | Ozark National Scenic Riverway.
CP-OZAR005-97 | Wild River Canoe, Inc. | Ozark National Scenic Riverway.
CP-OZAR014-97 | Windy's Canoe Rental | Ozark National Scenic Riverway.
CC-SLBE005-86 | Manitou Island Transit | Sleeping Bear Dunes National Landmark.
CP-SLBE008-99 | Blough Firewood | Sleeping Bear Dunes National Landmark.
CP-THRO001-98 | Shadow County Outfitters | Theodore Roosevelt National Park.
LP-WICA002-98 | Black Hills Parks and Forest Assn. | Wind Cave National Park

EFFECTIVE DATE: January 2, 2004.

FOR FURTHER INFORMATION CONTACT: Cynthia Orlando, Concession Program Manager, National Park Service, Washington, DC 20240, Telephone 202/513-7156.

Dated: November 25, 2003.
Richard G. Ring,
Associate Director, Administration, Business Practices and Workforce Development.

[FR Doc. 03-31943 Filed 12-29-03; 8:45 am]

BILLING CODE 4312-53-M